DEPARTMENT OF HOUSING AND URBAN DEVELOPMENT

[Docket Nos. FR-4950-FA-25, FR-4950-FA-26, FR-4950-FA-27, FR-4950-FA-28, FR-4950-FA-29, FR-4950-FA-30, and FR-4950-FA-31]

Announcement of Funding Award—Fiscal Year 2005 (FY2005); Office of Healthy Homes and Lead Hazard Control Grant Programs

AGENCY: Office of the Secretary, Office of Healthy Homes and Lead Hazard Control.

ACTION: Announcement of funding awards.

SUMMARY: In accordance with section 102(a)(4)(C) of the Department of Housing and Urban Development Reform Act of 1989, this announcement notifies the public of additional funding decisions made by the Department in competitions for funding under the Office of Healthy Homes and Lead Hazard Control Grant Programs Notices of Funding Availability (NOFA). This announcement contains the name and address of the award recipients and the amounts of award.

FOR FURTHER INFORMATION CONTACT: Jonnette Hawkins, Department of Housing and Urban Development, Office of Healthy Homes and Lead Hazard Control, 451 Seventh Street, SW., Room 8236, Washington, DC 20410-3000, telephone (202) 755-1785, ext. 7593. Hearing- and speech-impaired persons may access the number above via TTY by calling the toll free Federal Information Relay Service at (800) 877-8339.

SUPPLEMENTARY INFORMATION: The FY2005 awards were announced in the HUD News Release on September 21, 2005. These awards were the result of competitions announced in a Federal Register notice published on March 21, 2005 (70 FR 13836). The purpose of the competitions was to award grant funding for grants and cooperative agreements for the Office of Healthy Homes and Lead Hazard Control Grant Programs. Applications were scored and selected on the basis of selection criteria contained in these notices. A total of approximately $139,120,211 was awarded.

In accordance with section 102(a)(4)(C) of the Department of Housing and Urban Development Reform Act of 1989 (103 Stat. 1987, 42 U.S.C. 3545), the Department is publishing the names, addresses, and amounts of these awards as follows:

A total of $88,210,750 was awarded to 31 grantees for the Lead Based Paint and Hazard Control Program: City of Phoenix (renewal), 200 W. Washington, 4th floor, Phoenix, AZ 85003, $3,000,000; County of Alameda (renewal), 2000 Embarcadero, Suite 300, Oakland, CA 94606, $3,000,000; City of Los Angeles, 1200 W. 7th Street, Los Angeles, CA 90017, $3,000,000; Riverside County, Dept. of Public Health, 4065 County Circle Drive, Suite 304, Riverside, CA 92503, $3,000,000; San Diego Housing Commission, 9550 Ridgehaven Court, San Diego, CA 92123, $3,000,000; City and County of Denver, 201 Colfax Avenue, Dept 29, Denver, CO 80202, $1,799,168; City of New Britain, 27 W. Main Street, New Britain, CT 06051, $3,000,000; City of New Haven, 54 Meadow Street, 9th floor, New Haven, CT 06519, $3,000,000; City of Waterbury, 95 Scovil Street, Waterbury, CT 06706, $3,000,000; City of Cedar Rapids, 1211 6th Street, SW., Cedar Rapids, IA 52404, $1,864,309; City of Marshalltown, 24 N. Center Street, Marshalltown, IA 50158, $2,275,427; City of Rock Island, 1528 Third Avenue, Rock Island, IL 61201, $1,896,834; City of Chicago (renewal), 333 S. State Street, Chicago, IL 60604, $3,000,000; Health and Hospital Corporation of Marion County, 3838 N. Rural Street, Marion, IN 46205, $2,974,839; Louisville-Jefferson County Metro Government, 527 W. Jefferson Street, Louisville, KY 40202, $2,667,659; Maine State Housing, 353 Water Street, Augusta, ME 04330, $3,000,000; Commonwealth of Massachusetts, 100 Cambridge Street, Suite 300, Boston, MA 02114, $3,000,000; City of Lowell, 50 Arcand, JFK Civic Center, Lowell, MA 01852, $3,000,000; Kansas City, Missouri Health Department, 2400 Troost Avenue, Suite 3100, Kansas City, MO 64108, $2,749,872; City of Omaha, 1819 Farnam Street, Omaha, NE 68183, $2,000,000; County of Erie, 95 Franklin Street, Buffalo, NY 14202, $3,000,000; Chautauqua County, 7 N. Erie Street, Mayville, NY 14757, $2,196,257; City of New York, 100 Gold Street, New York, NY 10038, $3,000,000; City of Akron (renewal), 177 S. Broadway Street, Akron, OH 44308, $4,000,000; City of Fort Worth, 1000 Throckmorton Street, Fort Worth, TX 76102, $3,000,000; Houston Department of Health and Human Services, 8000 N. Stadium Drive, 2nd Floor, Houston, TX 77054, $3,000,000; City of Lynch, 900 Church Street, Lynchburg, VA 24504, $2,998,991; Commonwealth of Virginia-Dept. of Housing and Community Development, 501 N. Street, Richmond, VA 23219, $3,000,000; Vermont Housing Conversation Board, 149 State Street, Montpelier, VT 05602, $3,000,000; State of Washington, 906 Columbia Street, SW., Olympia, WA 98504, $3,000,000; City of Philadelphia, 2100 Girard Avenue, PNH Bldg. 3, Philadelphia, PA 19130, $2,999,628.

A total of $34,528,820 was awarded to 9 grantees for the Lead Hazard Reduction Demonstration Grant Program: City of Los Angeles, 1200 W. 7th Street, Los Angeles, CA 90017, $4,000,000; San Diego Housing Commission, 9550 Ridgehaven Court, San Diego, CA 92123, $4,000,000; City of Chicago, 333 S. State Street, Chicago, IL 60604, $4,000,000; Baltimore City Health Department, 210 Guilford Avenue, Baltimore, MD 21202, $2,746,574; City of Grand Rapids, MI, 1120 Monroe Avenue, Suite 360, Grand Rapids, MI 49503, $4,000,000; Hennepin County, 417 N. 5th Street, Suite 320, Minneapolis, MN 55401, $3,782,246; New York City Department of Housing & Planning & Development, 100 Gold Street, New York, NY 10038, $4,000,000; City of Philadelphia, 2100 Girard Avenue, PNH Bldg. 3, Philadelphia, PA 19130, $4,000,000; City of Memphis, 701 N. Main Street, Memphis, TN 38107, $4,000,000.

A total of $3,999,920 was awarded to 2 grantees for the Operation Lead Elimination Action Program (LEAP): Coalition To End Childhood Lead Poisoning, 10227 Wincopin, Suite 100, Columbia, MD 21044, $2,000,000; ACORN Associates, 1024 Elysian Fields Avenue, New Orleans, LA 70117, $1,999,920.

A total of $1,651,460 was awarded to 4 grantees for the Lead Technical Studies Program: University of Cincinnati, P.O. Box 6720533, Cincinnati, OH 45267-0553, $540,692; Research Triangle Institute, 3040 Cornwallis, P.O. Box 12194 RTP, NC 27709, $313,467; St. Louis University, 3556 Caroline Mall, Saint Louis, MO 63104, $197,301; City of Philadelphia, 2100 Girard Avenue, PNH Bldg. 3, Philadelphia, PA 19130, $600,000.

A total of $5,943,553 was awarded to 6 grantees for the Healthy Homes Demonstration Grant Program: Esperanza Community Housing Corporation, 2337 S. Figueroa, Los Angeles, CA 90007, $975,000; City of National City, 1243 National City Blvd., National City, CA 91950, $996,495; State of Michigan, 3423 N. MLK Jr. Blvd., BOW Bldg., Lansing, MI 48909, $989,717; Case Western Reserve University, 10900 Euclid Avenue, Cleveland, OH 44106, $983,467; Multnomah County Health Department, 426 SW. Stark, Floor 8, Portland, OR 97205, $998,874; City of Philadelphia, 2100 Girard Avenue, PNH Bldg. 3, Philadelphia, PA 19130, $1,000,000.

A total of $2,287,466 was awarded to 5 grantees for the Lead Outreach Grants Program: City of Los Angeles, 1200 W. 7th Street, Los Angeles, CA 90017, $500,000; City of Minneapolis, 250 S. 4th Street, RM 510 Minneapolis, MN 55415, $499,797; City of New York, 100 Gold Street, New York, NY 10038, $500,000; Erie County Dept. of Health, 95 Franklin Street, Buffalo, NY 14202, $500,000; Kansas City, Missouri, $287,669.

A total of $2,498,242 was awarded to 5 grantees for the Healthy Homes Technical Studies Grants Program and $365,736 to 1 grant for a FY 2004 correction: Purdue University, 302 Wood Young Street, West Lafayette, IN 47907, $221,325; Tulane University School of Public Health & Tropical Medicine, 430 Tulane Avenue, EP 15, New Orleans, LA 70112, $627,402; President & Fellows of Harvard College, 677 Huntington Avenue, Boston, MA 02115, $721,066; National Center for Healthy Housing, 10227 Wincopin, Suite 100, Columbia, MD 21044, $520,096; Saint Louis University, 3556 Caroline Mall, St. Louis, MO 63104, $408,353; Edenspace Systems Corporation (FY 2004), 15100 Enterprise Court, Suite 100, Chantilly, VA 20151-1217, $365,736.

Office of Healthy Homes.
Dated: May 26, 2006.
Jon L. Gant,
Director, Office of Healthy Homes and Lead Hazard Control.

[FR Doc. E6-9240 Filed 6-13-06; 8:45 am]

BILLING CODE 4210-67-P